ENVIRONMENTAL PROTECTION AGENCY

40 CFR Part 52

[EPA-R10-OAR-2024-0511; FRL-12384-01-R10]

Air Plan Approval; AK; Updates to Materials Incorporated by Reference

AGENCY: Environmental Protection Agency (EPA).

ACTION: Final rule; administrative change.

SUMMARY: The Environmental Protection Agency (EPA) is updating the materials that are incorporated by reference (IBR) into the Alaska State Implementation Plan (SIP). The regulations affected by this update have been previously submitted by the State of Alaska and approved by the EPA. In this final rule, the EPA is also notifying the public of corrections and clarifying changes in the Code of Federal Regulations tables that identify the materials incorporated by reference into the Alaska SIP. This update affects the materials that are available for public inspection at the National Archives and Records Administration and the EPA Regional Office.

DATES: Effective January 17, 2025.

ADDRESSES: The SIP materials for which incorporation by reference into 40 CFR part 52 is finalized through this action are available for inspection at the following locations: Environmental Protection Agency, Region 10, 1200 Sixth Avenue, Suite 155, Seattle, WA 98101; and www.regulations.gov. To view the materials at the Region 10 Office, the EPA requests that you email the contact listed in the FOR FURTHER INFORMATION CONTACT section to schedule your inspection. The Regional Office's official hours of business are Monday through Friday 8:30 a.m. to 4:30 p.m., excluding Federal holidays.

FOR FURTHER INFORMATION CONTACT: Kristin Hall, EPA Region 10, 1200 Sixth Avenue—Suite 155, Seattle, WA 98101, at (206) 553-6357, or hall.kristin@epa.gov.

SUPPLEMENTARY INFORMATION:

I. Background

Each State has a SIP containing the control measures and strategies used to attain and maintain the national ambient air quality standards (NAAQS). The SIP is extensive, containing such elements as air pollution control regulations, emission inventories, monitoring networks, attainment demonstrations, and enforcement mechanisms.

Each State must formally adopt the control measures and strategies in the SIP after the public has had an opportunity to comment on them and then submit the proposed SIP revisions to the EPA. Once these control measures and strategies are approved by EPA, and after notice and comment, they are incorporated into the federally approved SIP and are identified in part 52, “Approval and Promulgation of Implementation Plans,” of title 40 of the Code of Federal Regulations (40 CFR part 52). The full text of the State regulation approved by the EPA is not reproduced in its entirety in 40 CFR part 52 but is “incorporated by reference.” This means that the EPA has approved a given State regulation or specified changes to the given regulation with a specific effective date. The public is referred to the location of the full text version should they want to know which measures are contained in a given SIP. The information provided allows the EPA and the public to monitor the extent to which a State implements a SIP to attain and maintain the NAAQS and to take enforcement action for violations of the SIP.

The SIP is a living document which the State can revise as necessary to address the unique air pollution problems in the State. Therefore, the EPA from time to time must take action on proposed revisions containing new or revised State regulations. A submission from a State can revise one or more rules in their entirety, or portions of rules. The State indicates the changes in the submission (such as by using redline/strikethrough text) and the EPA then takes action on the requested changes. The EPA establishes a docket for its actions using a unique Docket Identification Number, which is listed in each action. These dockets and the complete submission are available for viewing on www.regulations.gov.

On May 22, 1997 (62 FR 27968), the EPA revised the procedures for incorporating by reference, into the CFR, materials approved by the EPA into each SIP. These changes revised the format for the identification of the SIP in 40 CFR part 52, streamlined the mechanisms for announcing the EPA approval of revisions to a SIP, and streamlined the mechanisms for the EPA's updating of the IBR information contained for each SIP in 40 CFR part 52. The revised procedures also called for the EPA to maintain “SIP Compilations” that contain the federally approved regulations and source-specific permits submitted by each State agency.

The EPA generally updates these SIP Compilations every few years. Under the revised procedures, the EPA must periodically publish an informational document in the rules section of the Federal Register notifying the public that updates have been made to a SIP Compilation for a particular State. The EPA began applying the 1997 revised procedures to the Alaska SIP on April 10, 2014 (79 FR 19820). The EPA subsequently published updates to the IBR materials for Alaska on December 8, 2017 (82 FR 57836) and December 12, 2022 (87 FR 75932).

A. Approved and Incorporated by Reference Regulatory Materials

Since the last IBR update, the EPA approved and incorporated by reference regulatory materials into the Alaska SIP at 40 CFR 52.70(c):

1. Action on March 22, 2023 (88 FR 2873):

• 18 AAC 50.035 (documents, procedures, and methods adopted by reference), except (a)(6), (a)(9), and (b)(4) (State effective 4/16/2022);

• 18 AAC 50.040 (Federal standards adopted by reference), except (a), (b), (c), (d), (e), (g), (j), and (k) (State effective 4/16/2022);

• 18 AAC 50.270 (electronic submission requirements) (State effective 9/7/2022);

• 18 AAC 50.275 (consistency of reporting methodologies) (State effective 9/7/2022); and

• 18 AAC 50.400 (permit administration fees), except (a), (b), (c), and (i) (State effective 9/7/2022).

2. Action on August 9, 2023 (88 FR 53793):

• 18 AAC 50.025 (establishing geographic areas that may need additional pollution control because of special circumstances) (State effective 4/16/2022);

• 18 AAC 50.502 (establishing which types of stationary sources must obtain minor construction and/or operating permits) (State effective 4/14/2022);

• 18 AAC 50.540 (outlining the required contents of an application for a minor construction and/or operating permit) State effective 4/14/2022); and

• 18 AAC 50.542 (establishing the process the state uses to review permit applications from sources, conduct public notice and comment, and issue permits) (State effective 4/14/2022).

3. Action on December 5, 2023 (88 FR 84626):

• 18 AAC 50.075 (solid fuel-fired heating device visible emission standards), except (d)(2) (State effective 11/18/2020).

B. Regulatory Materials Removed From Incorporation by Reference

Since the last IBR update, the EPA also removed the following regulatory materials from the Alaska SIP at 40 CFR 52.70(c):

1. Action on August 9, 2023 (88 FR 53793):

• 18 AAC 50.080 (regulating water vapor emissions from industrial sources that may form ice fog) (State effective 1/18/1997).

II. EPA Action

In this action, the EPA is providing notification of an update to the materials incorporated by reference into the Alaska SIP as of October 1, 2024, and identified in 40 CFR 52.70(c). This update includes SIP materials submitted by Alaska and approved by the EPA since the last IBR update. See 87 FR 75932 (December 12, 2022).

III. Good Cause Exemption

The EPA has determined that this action falls under the “good cause” exemption in section 553(b)(3)(B) of the Administrative Procedure Act (APA) which, upon finding “good cause,” authorizes agencies to dispense with public participation and section 553(d)(3) which allows an agency to make an action effective immediately (thereby avoiding the 30-day delayed effective date otherwise provided for in the APA). This administrative action simply codifies provisions which are already in effect as a matter of law in Federal and approved State programs, makes corrections and clarifying changes to the tables in the CFR, and makes ministerial changes to the prefatory heading to the tables in the CFR. Under section 553 of the APA, an agency may find good cause where procedures are “impracticable, unnecessary, or contrary to the public interest.” Public comment for this administrative action is “unnecessary” and “contrary to the public interest” since the codification (and corrections) only reflect existing law. Immediate notice of this action in the Federal Register benefits the public by providing the public notification of the updated Alaska SIP Compilation and notification of corrections to the Alaska “Identification of Plan” portion of the CFR. Further, pursuant to section 553(d)(3), making this action immediately effective benefits the public by immediately updating both the SIP Compilation and the CFR “Identification of plan” section (which includes table entry corrections).

IV. Incorporation by Reference

In this document, the EPA is finalizing regulatory text that includes incorporation by reference. In accordance with requirements of 1 CFR 51.5, the EPA is finalizing the incorporation by reference of regulations promulgated by Alaska, previously approved by the EPA and federally effective before October 1, 2024, contained in 40 CFR 52.70(c), EPA approved laws and regulations, described in section II. of this preamble. The EPA has made, and will continue to make, these materials generally available through www.regulations.gov and at the EPA Region 10 Office (please contact the person identified in the FOR FURTHER INFORMATION CONTACT section of this preamble for more information).

V. Statutory and Executive Order Reviews

Under the Clean Air Act (CAA), the Administrator is required to approve a SIP submission that complies with the provisions of the CAA and applicable Federal regulations. 42 U.S.C. 7410(k); 40 CFR 52.02(a). Thus, in reviewing SIP submissions, The EPA's role is to approve State choices, provided that they meet the criteria of the CAA. Accordingly, this action merely addresses administrative requirements related to previously approved State law found to meet Federal requirements and does not impose additional requirements beyond those previously imposed by State law. For that reason, this action:

• Is not a “significant regulatory action” subject to review by the Office of Management and Budget under Executive Orders 12866 (58 FR 51735, October 4, 1993) and 14094 (88 FR 21879, April 11, 2023);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it is an administrative action related to State program approval;

• Is not a significant regulatory action subject to Executive Order 13211 (66 FR 28355, May 22, 2001); and

• Is not subject to requirements of section 12(d) of the National Technology Transfer and Advancement Act of 1995 (15 U.S.C. 272 note) because application of those requirements would be inconsistent with the Clean Air Act.

In addition, the SIP is not approved to apply on any Indian reservation land or in any other area where the EPA or an Indian Tribe has demonstrated that a Tribe has jurisdiction. In those areas of Indian country, the rule does not have Tribal implications and it will not impose substantial direct costs on Tribal governments or preempt Tribal law as specified by Executive Order 13175 (65 FR 67249, November 9, 2000).

Executive Order 12898 (Federal Actions To Address Environmental Justice in Minority Populations and Low-Income Populations, 59 FR 7629, February 16, 1994) directs Federal agencies to identify and address “disproportionately high and adverse human health or environmental effects” of their actions on communities with environmental justice (EJ) concerns to the greatest extent practicable and permitted by law. Executive Order 14096 (Revitalizing Our Nation's Commitment to Environmental Justice for All, 88 FR 25251, April 26, 2023) builds on and supplements Executive Order 12898 and defines EJ as, among other things, the just treatment and meaningful involvement of all people, regardless of income, race, color, national origin, or Tribal affiliation, or disability in agency decision-making and other Federal activities that affect human health and the environment.” The CAA and applicable implementing regulations neither prohibit nor require an EJ evaluation. This CAA administrative action to update the incorporation by reference of previously submitted and approved State regulatory materials, the EPA did not consider EJ in this action.

The Congressional Review Act, 5 U.S.C. 801 et seq., as added by the Small

Business Regulatory Enforcement Fairness Act of 1996, generally provides that before a rule may take effect, the agency promulgating the rule must submit a rule report, which includes a copy of the rule, to each House of the Congress and to the Comptroller General of the United States. The EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

The EPA also believes that the provisions of section 307(b)(1) of the CAA pertaining to petitions for judicial review are not applicable to this action. This is because prior EPA rulemaking actions for each individual component of the Alaska SIP Compilation previously afforded interested parties the opportunity to file a petition for judicial review in the United States Court of Appeals for the appropriate circuit within 60 days of such rulemaking action. Thus, the EPA believes judicial review of this action under section 307(b)(1) is not available.

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: January 13, 2025.
Casey Sixkiller,
Regional Administrator, Region 10.

For the reasons set forth in the preamble, 40 CFR part 52 is amended as follows:

PART 52—APPROVAL AND PROMULGATION OF IMPLEMENTATION PLANS

1. The authority citation for part 52 continues to read as follows:

Authority: 42 U.S.C. 7401 et seq.

Subpart C—Alaska

2. Section 52.70 is amended by revising paragraphs (b) through (e) to read as follows:

§ 52.70 Identification of plan.

* * * * *

(b) Incorporation by reference. (1) Material listed in paragraph (c) of this section with an EPA approval date prior to October 1, 2024, was approved for incorporation by reference by the Director of the Federal Register in accordance with 5 U.S.C. 552(a) and 1 CFR part 51. Material is incorporated as it exists on the date of the approval and notification of any change in the material will be published in the Federal Register. Entries in paragraph (c) of this section with EPA approval dates after October 1, 2024, will be incorporated by reference in the next update to the SIP compilation.

(2) EPA Region 10 certifies that the rules/regulations provided by the EPA in the SIP compilation at the addresses in paragraph (b)(3) of this section are an exact duplicate of the officially promulgated State rules/regulations which have been approved as part of the State Implementation Plan as of the dates referenced in paragraph (b)(1) of this section.

(3) Copies of the materials incorporated by reference may be inspected at the Region 10 EPA Office at 1200 Sixth Avenue, Suite 155, Seattle, WA 98101. To obtain the material, please call (206) 553-6357. You may inspect the material with an EPA approval date prior to October 1, 2024, for Alaska at the National Archives and Records Administration (NARA). For information on the availability of this material at NARA email fedreg.legal@nara.gov or go to https://www.archives.gov/federal-register/cfr/ibr-locations.

(c) EPA approved laws and regulations.

Table 1 to Paragraph (c)—EPA-Approved Alaska Regulations
State citation | Title/subject | State effective date | EPA approval date | Explanations
Alaska Administrative Code Title 18—Environmental Conservation, Chapter 50—Air Quality Control (18 AAC 50)
18 AAC 50—Article 1. Ambient Air Quality Management
18 AAC 50.005 | Purpose and Applicability of Chapter | 10/1/2004 | 8/14/2007, 72 FR 45378 |
18 AAC 50.007 | Local Government Powers or Obligations Under a Local Air Quality Control Program | 2/28/2015 | 9/8/2017, 82 FR 42457 |
18 AAC 50.010 | Ambient Air Quality Standards | 8/20/2016 | 8/28/2017, 82 FR 40712 | Except (8).
18 AAC 50.015 | Air Quality Designations, Classifications, and Control Regions | 11/7/2020 | 2/10/2022, 87 FR 7722 |
18 AAC 50.020 | Baseline Dates and Maximum Allowable Increases | 8/20/2016 | 8/28/2017, 82 FR 40712 |
18 AAC 50.025 | Visibility and Other Special Protection Areas | 5/16/2022 | 8/9/2023, 88 FR 53793 |
18 AAC 50.030 | State Air Quality Control Plan | 11/7/2020 | 2/10/2022, 87 FR 7722 | Except (a).
18 AAC 50.035 | Documents, Procedures and Methods Adopted by Reference | 4/16/2022 | 3/22/2023, 88 FR 17159 | Except (a)(6), (a)(9), and (b)(4).
18 AAC 50.040 | Federal Standards Adopted by Reference | 4/16/2022 | 3/22/2023, 88 FR 17159 | Except (a), (b), (c), (d), (e), (g), (j) and (k).
18 AAC 50.045 | Prohibitions | 10/1/2004 | 8/14/2007, 72 FR 45378 |
18 AAC 50.050 | Incinerator Emission Standards | 7/25/2008 | 9/19/2014, 79 FR 56268 |
18 AAC 50.055 | Industrial Processes and Fuel-Burning Equipment | 9/15/2018 | 8/29/2019, 84 FR 45419 | Except (d)(2)(B).
18 AAC 50.065 | Open Burning | 3/2/2016 | 9/8/2017, 82 FR 42457 |
18 AAC 50.070 | Marine Vessel Visible Emission Standards | 6/21/1998 | 8/14/2007, 72 FR 45378 |
18 AAC 50.075 | Solid Fuel-Fired Heating Device Visible Emission Standards | 1/8/2020 | 9/24/2021, 86 FR 52997 | Except (d)(2).
18 AAC 50.076 | Solid Fuel-Fired Heating Device Fuel Requirements; Requirements for Wood Sellers | 1/8/2020 | 9/24/2021, 86 FR 52997 | Except (g)(11).
18 AAC 50.077 | Standards for Wood-Fired Heating Devices | 11/7/2020 | 2/10/2022, 87 FR 7722 | Except (g).
18 AAC 50.078 | Additional Control Measures for a Serious PM-2.5 Nonattainment Area | 1/8/2020 | 9/24/2021, 86 FR 52997 | Except (c) and (d).
18 AAC 50.079 | Provisions for Coal-Fired Heating Devices | 1/8/2020 | 9/24/2021, 86 FR 52997 | Except (e).
18 AAC 50.100 | Nonroad Engines | 10/1/2004 | 8/14/2007, 72 FR 45378 |
18 AAC 50.110 | Air Pollution Prohibited | 5/26/1972 | 5/31/1972, 37 FR 10842 |
18 AAC 50—Article 2. Program Administration
18 AAC 50.200 | Information Requests | 10/1/2004 | 8/14/2007, 72 FR 45378 |
18 AAC 50.201 | Ambient Air Quality Investigation | 10/1/2004 | 8/14/2007, 72 FR 45378 |
18 AAC 50.205 | Certification | 11/7/2020 | 2/10/2022, 87 FR 7722 |
18 AAC 50.215 | Ambient Air Quality Analysis Methods | 9/15/2018 | 8/29/2019, 84 FR 45419 | Except (a)(4).
18 AAC 50.220 | Enforceable Test Methods | 9/15/2018 | 8/29/2019, 84 FR 45419 | Except (c)(1)(A), (B), (C), and (c)(2).
18 AAC 50.225 | Owner-Requested Limits | 9/15/2018 | 8/29/2019, 84 FR 45419 |
18 AAC 50.230 | Preapproved Emission Limits | 11/7/2020 | 2/10/2022, 87 FR 7722 | Except (d).
18 AAC 50.245 | Air Quality Episodes and Advisories for Air Pollutants Other than PM-2.5 | 2/28/2015 | 9/8/2017, 82 FR 42457 |
18 AAC 50.246 | Air Quality Episodes and Advisories for PM-2.5 | 2/28/2015 | 9/8/2017, 82 FR 42457 |
18 AAC 50.250 | Procedures and Criteria for Revising Air Quality Classifications | 11/7/2020 | 2/10/2022, 87 FR 7722 |
18 AAC 50.260 | Guidelines for Best Available Retrofit Technology under the Regional Haze Rule | 9/15/2018 | 8/29/2019, 84 FR 45419 |
18 AAC 50.270 | Electronic Submission Requirements | 9/7/2022 | 3/22/2023, 88 FR 17159 |
18 AAC 50.275 | Consistency of Reporting Methodologies | 9/7/2022 | 3/22/2023, 88 FR 17159 |
18 AAC 50—Article 3. Major Stationary Source Permits
18 AAC 50.301 | Permit Continuity | 10/1/2004 | 8/14/2007, 72 FR 45378 |
18 AAC 50.302 | Construction Permits | 9/14/2012 | 9/19/2014, 79 FR 56268 | Except (a)(3).
18 AAC 50.306 | Prevention of Significant Deterioration (PSD) Permits | 1/4/2013 | 9/19/2014, 79 FR 56268 |
18 AAC 50.311 | Nonattainment Area Major Stationary Source Permits | 11/7/2020 | 2/10/2022, 87 FR 7722 |
18 AAC 50.345 | Construction, Minor and Operating Permits: Standard Permit Conditions | 9/15/2018 | 8/29/2019, 84 FR 45419 | Except (b), (c)(3), and (l).
18 AAC 50—Article 4. User Fees
18 AAC 50.400 | Permit Administration Fees | 9/7/2022 | 3/22/2023, 88 FR 45419 | Except (a), (b), (c), and (i).
18 AAC 50—Article 5. Minor Permits
18 AAC 50.502 | Minor Permits for Air Quality Protection | 5/16/2022 | 8/9/2023, 88 FR 53793 |
18 AAC 50.508 | Minor Permits Requested by the Owner or Operator | 12/9/2010 | 9/19/2014, 79 FR 56268 |
18 AAC 50.510 | Minor Permit—Title V Permit Interface | 12/9/2010 | 9/19/2014, 79 FR 56268 |
18 AAC 50.540 | Minor Permit: Application | 5/16/2022 | 8/9/2023, 88 FR 53793 |
18 AAC 50.542 | Minor Permit: Review and Issuance | 5/16/2022 | 8/9/2023, 88 FR 53793 |
18 AAC 50.544 | Minor Permits: Content | 12/9/2010 | 9/19/2014, 79 FR 56268 |
18 AAC 50.546 | Minor Permits: Revisions | 7/15/2008 | 9/19/2014, 79 FR 56268 | Except (b).
18 AAC 50.560 | General Minor Permits | 9/15/2018 | 8/29/2019, 84 FR 45419 |
18 AAC 50—Article 7. Transportation Conformity
18 AAC 50.700 | Purpose | 4/17/2015 | 9/8/2015; 80 FR 53735 |
18 AAC 50.705 | Applicability | 4/17/2015 | 9/8/2015; 80 FR 53735 |
18 AAC 50.712 | Agency Responsibilities | 4/17/2015 | 9/8/2015; 80 FR 53735 |
18 AAC 50.715 | Interagency Consultation Procedures | 3/2/2016 | 8/28/2017, 82 FR 40712 |
18 AAC 50.720 | Public Involvement | 3/2/2016 | 8/28/2017, 82 FR 40712 |
18 AAC 50.740 | Written Comments | 4/17/2015 | 9/8/2015, 80 FR 53735 |
18 AAC 50.745 | Resolving Conflicts | 4/17/2015 | 9/8/2015, 80 FR 53735 |
18 AAC 50.750 | Exempt Projects | 4/17/2015 | 9/8/2015, 80 FR 53735 |
18 AAC 50—Article 9. General Provisions
18 AAC 50.900 | Small Business Assistance Program | 10/1/2004 | 8/14/2007, 72 FR 45378 |
18 AAC 50.990 | Definitions | 11/7/2020 | 2/10/2022, 87 FR 7722 |
Alaska Administrative Code Title 18—Environmental Conservation, Chapter 52 Emissions Inspection and Maintenance Requirements (18 AAC 52)
18 AAC 52—Article 1. Emissions Inspection and Maintenance Requirements
18 AAC 52.005 | Applicability and General Requirements | 5/17/2008 | 3/22/2010, 75 FR 13436 |
18 AAC 52.007 | Suspension and Reestablishment of I/M Requirements | 5/17/2008 | 3/22/2010, 75 FR 13436 |
18 AAC 52.010 | I/M Program Administration Office | 2/18/2006 | 3/22/2010, 75 FR 13436 |
18 AAC 52.015 | Motor Vehicle Maintenance Requirements | 2/18/2006 | 3/22/2010, 75 FR 13436 |
18 AAC 52.020 | Certificate of Inspection Requirements | 2/18/2006 | 3/22/2010, 75 FR 13436 |
18 AAC 52.025 | Visual Identification of Certificate of Inspection, Waivers, and Exempt Vehicles | 2/18/2006 | 3/22/2010, 75 FR 13436 |
18 AAC 52.030 | Department-Administered I/M Program | 2/1/1994 | 4/5/1995, 60 FR 17232 |
18 AAC 52.035 | I/M Program Administered by an Implementing Agency | 3/27/2002 | 3/22/2010, 75 FR 13436 |
18 AAC 52.037 | Reporting Requirements for an I/M Program Administered by an Implementing Agency | 2/18/2006 | 3/22/2010, 75 FR 13436 |
18 AAC 52.040 | Centralized Inspection Program | 2/1/1994 | 4/5/1995, 60 FR 17232 |
18 AAC 52.045 | Decentralized Inspection Program | 2/1/1994 | 4/5/1995, 60 FR 17232 |
18 AAC 52.050 | Emissions Standards | 3/27/2002 | 3/22/2010, 75 FR 13436 |
18 AAC 52.055 | Alternative Requirements, Standards and Test Procedures | 1/1/2000 | 1/8/2002, 67 FR 822 |
18 AAC 52.060 | Waivers | 5/17/2008 | 3/22/2010, 75 FR 13436 |
18 AAC 52.065 | Emissions-Related Repair Cost Minimum | 1/1/2000 | 1/8/2002, 67 FR 822 |
18 AAC 52.070 | Referee Facility | 3/27/2002 | 3/22/2010, 75 FR 13436 |
18 AAC 52.075 | Kit Cars and Custom-Manufactured Vehicles | 2/1/1994 | 4/5/1995, 60 FR 17232 |
18 AAC 52.080 | Grey Market Vehicles | 3/27/2002 | 3/22/2010, 75 FR 13436 |
18 AAC 52.085 | Vehicle Modifications | 2/18/2006 | 3/22/2010, 75 FR 13436 |
18 AAC 52.090 | Repair of Nonconforming Vehicles | 1/1/1998 | 12/29/1999, 64 FR 72940 |
18 AAC 52.095 | Minimum Certification Requirements | 1/1/1998 | 12/29/1999, 64 FR 72940 |
18 AAC 52.100 | Enforcement Procedures for Violations by Motorists | 12/14/2006 | 3/22/2010, 75 FR 13436 |
18 AAC 52.105 | Enforcement Procedures for Violations by Certified Mechanics or Stations | 1/1/2000 | 1/8/2002, 67 FR 822 |
18 AAC 52—Article 4. Certification Requirements
18 AAC 52.400 | Mechanic Certification | 1/1/1998 | 12/29/1999, 64 FR 72940 |
18 AAC 52.405 | Certified Mechanic Examinations | 3/27/2002 | 3/22/2010, 75 FR 13436 |
18 AAC 52.410 | Training Course Certification | 2/18/2006 | 3/22/2010, 75 FR 13436 |
18 AAC 52.415 | I/M Station Certification | 1/1/2000 | 1/8/2002, 67 FR 822 |
18 AAC 52.420 | Equipment Certification | 1/1/2000 | 1/8/2002, 67 FR 822 |
18 AAC 52.425 | Renewal of Certification | 1/1/1998 | 12/29/1999, 64 FR 72940 |
18 AAC 52.430 | Duty to Report Change in Status | 2/1/1994 | 4/5/1995, 60 FR 17232 |
18 AAC 52.440 | Monitoring of Certified Mechanics and Stations | 1/1/2000 | 1/8/2002, 67 FR 822 |
18 AAC 52.445 | Suspension or Revocation of Certification | 2/1/1994 | 4/5/1995, 60 FR 17232 |
18 AAC 52—Article 5. Certified Station Requirements
18 AAC 52.500 | General Operating Requirements | 1/1/2000 | 1/8/2002, 67 FR 822 |
18 AAC 52.505 | Display of Certified Station Sign | 2/1/1994 | 4/5/1995, 60 FR 17232 |
18 AAC 52.510 | Display of Certificates | 2/18/2006 | 3/22/2010, 75 FR 13436 |
18 AAC 52.515 | Inspection Charges | 2/18/2006 | 3/22/2010, 75 FR 13436 |
18 AAC 52.520 | Required Tools and Equipment | 2/18/2006 | 3/22/2010, 75 FR 13436 |
18 AAC 52.525 | Remote Station Operation | 1/1/2000 | 1/8/2002, 67 FR 822 |
18 AAC 52.527 | Prescreening Prohibited | 1/1/2000 | 1/8/2002, 67 FR 822 |
18 AAC 52.530 | Preliminary Inspection | 1/1/2000 | 1/8/2002, 67 FR 822 |
18 AAC 52.535 | Test Abort Conditions | 3/27/2002 | 3/22/2010, 75 FR 13436 |
18 AAC 52.540 | Official I/M Testing | 3/27/2002 | 3/22/2010, 75 FR 13436 |
18 AAC 52.545 | Parts on Order | 1/1/1998 | 12/29/1999, 64 FR 72940 |
18 AAC 52.546 | Unavailable Parts | 1/1/1998 | 12/29/1999, 64 FR 72940 |
18 AAC 52.550 | Recordkeeping Requirements | 2/1/1994 | 4/5/1995, 60 FR 17232 |
18 AAC 52—Article 9. General Provisions
18 AAC 52.990 | Definitions | 2/18/2006 | 3/22/2010, 75 FR 13436 |
Alaska Administrative Code Title 18—Environmental Conservation, Chapter 53 Fuel Requirements for Motor Vehicles (18 AAC 53)
18 AAC 53—Article 1. Oxygenated Gasoline Requirements
18 AAC 53.005 | Purpose and Applicability; General Requirements | 10/31/1997 | 12/29/1999, 64 FR 72940 |
18 AAC 53.007 | Dispenser Labeling | 10/31/1997 | 12/29/1999, 64 FR 72940 |
18 AAC 53.010 | Control Periods and Control Areas | 2/20/2004 | 6/23/2004, 69 FR 34935 |
18 AAC 53.020 | Required Oxygen Content | 10/31/1997 | 12/29/1999, 64 FR 72940 |
18 AAC 53.030 | Sampling, Testing and Oxygen Content Calculations | 10/31/1997 | 12/29/1999, 64 FR 72940 |
18 AAC 53.035 | Per Gallon Method of Compliance | 10/31/1997 | 12/29/1999, 64 FR 72940 |
18 AAC 53.040 | Averaging Oxygen Content Method of Compliance | 10/31/1997 | 12/29/1999, 64 FR 72940 |
18 AAC 53.045 | Oxygen Credits and Debits | 10/31/1997 | 12/29/1999, 64 FR 72940 |
18 AAC 53.060 | Oxygenated Gasoline Blending | 10/31/1997 | 12/29/1999, 64 FR 72940 |
18 AAC 53.070 | Registration and Permit | 10/31/1997 | 12/29/1999, 64 FR 72940 |
18 AAC 53.080 | Car Fees | 12/30/2000 | 1/08/2002, 67 FR 822 |
18 AAC 53.090 | Recordkeeping | 10/31/1997 | 12/29/1999, 64 FR 72940 |
18 AAC 53.100 | Reporting | 10/31/1997 | 12/29/1999, 64 FR 72940 |
18 AAC 53.105 | Product Transfer Document | 10/31/1997 | 12/29/1999, 64 FR 72940 |
18 AAC 53.120 | Inspection and Sampling | 10/31/1997 | 12/29/1999, 64 FR 72940 |
18 AAC 53.130 | Liability for Violation | 10/31/1997 | 12/29/1999, 64 FR 72940 |
18 AAC 53.140 | Defenses for Violation | 10/31/1997 | 12/29/1999, 64 FR 72940 |
18 AAC 53.150 | Temporary Variances | 10/31/1997 | 12/29/1999, 64 FR 72940 |
18 AAC 53.160 | Quality Assurance Program | 10/31/1997 | 12/29/1999, 64 FR 72940 |
18 AAC 53.170 | Attest Engagements | 10/31/1997 | 12/29/1999, 64 FR 72940 |
18 AAC 53.190 | Suspension and Reestablishment of Control Period | 2/20/2004 | 6/23/2004, 69 FR 34935 |
18 AAC 53—Article 9. General Provisions
18 AAC 53.990 | Definitions | 10/31/1997 | 12/29/1999, 64 FR 72940 |

Table 2 to Paragraph (c)—Alaska State Statutes
State citation | Title/subject | State effective date | EPA approval date | Explanations
Title 45—Trade and Commerce, Chapter 45.45. Trade Practices
Sec. 45.45.400 | Prohibited Transfer of Used Cars | 6/25/1993 | 11/18/1998, 63 FR 63983 | Except (b).
Title 46—Water, Air, Energy, and Environmental Conservation, Chapter 46.14. Air Quality Control
Sec. 46.14.550 | Responsibilities of Owner and Operator; Agent for Service | 1/4/2013 | 9/19/2014, 79 FR 56268 |
Sec. 46.14.560 | Unavoidable Malfunctions and Emergencies | 6/25/1993 | 11/18/1998, 63 FR 63983 |
Sec. 46.14.990 | Definitions | 1/4/2013 | 9/19/2014, 79 FR 56268 | Except (1) through (3), (6), (7), (9) through (14), (19) through (26), and (28).

Table 3 to Paragraph (c)—City and Borough Codes and Ordinances
State citation | Title/subject | State effective date | EPA approval date | Explanations
Anchorage Municipal Code and Ordinances
Anchorage Municipal Code 21.85.030 | Improvement Requirements by Improvement Area | 1/16/1987 (city effective date) | 8/13/1993, 58 FR 43084 | Eagle River PM Plan—Contingency Plan.
Anchorage Municipal Code 21.45.080.W.7 | Paving | 9/24/1991 (city effective date) | 8/13/1993, 58 FR 43084 | Section W.7. Eagle River PM Plan—Contingency Plan.
Anchorage Ordinance 2006-13 | An ordinance amending the Anchorage Municipal Code, Chapters 15.80 and 15.85 to comply with State I/M regulations and to comply with DMV Electronic Procedures | 2/14/2006 (city approval date) | 3/22/2010, 75 FR 13436 | Anchorage Transportation Control Program—Carbon Monoxide.
City and Borough of Juneau Ordinances
Ordinance of the City and Borough of Juneau, No. 91-53 | An Ordinance amending the wood smoke control fine schedule to increase the fines for violations of the wood smoke control code | 1/6/1992 (city adoption date) | 3/24/1994, 59 FR 13884 | Mendenhall Valley PM Plan.
Ordinance of the City and Borough of Juneau No. 93-01 | Setting boundaries for regrading and surfacing | 2/8/1993 (city adoption date) | 3/24/1994, 59 FR 13884 | Mendenhall Valley PM Plan.
Ordinance of the City and Borough of Juneau, No. 93-06 | Setting boundaries for regrading and surfacing | 4/5/1993 (city adoption date) | 3/24/1994, 59 FR 13884 | Mendenhall Valley PM Plan.
Ordinance of the City and Borough of Juneau, No. 93-39am | An Ordinance creating Local Improvement District No. 77 of the City and Borough, setting boundaries for drainage and paving of streets in the Mendenhall Valley | 11/17/1993 (city adoption date) | 3/24/1994, 59 FR 13884 | Mendenhall Valley PM Plan.
Ordinance of the City and Borough of Juneau, Serial No. 2008-28 | An Ordinance Amending the Woodsmoke Control Program Regarding Solid Fuel-Fired Burning Devices | 9/8/2008 (city adoption date) | 5/9/2013, 78 FR 27071 | Mendenhall Valley PM Limited Maintenance Plan.
Fairbanks North Star Borough Ordinances and Code
Fairbanks North Star Borough Ordinance No. 2001-17 | Mandating a Fairbanks North Star Borough Motor Vehicle Plug-in Program | 4/12/2001 (borough adoption date) | 2/4/2002, 67 FR 5064 | Fairbanks Transportation Control Program—Carbon Monoxide.
Fairbanks North Star Borough Ordinance No. 2003-71 | An Ordinance amending the Carbon Monoxide Emergency Episode Prevention Plan including implementing a Woodstove Control Ordinance | 10/30/2003 (borough adoption date) | 7/27/2004, 69 FR 44601 | Fairbanks Carbon Monoxide Maintenance Plan.
Chapter 21.28—PM2.5 Air Quality Control Program
21.28.010 | Definitions | 3/2/2015 (borough effective date) | 9/8/2017, 82 FR 42457 |
21.28.020 | Borough listed appliances | 1/15/2016 (borough effective date) | 9/8/2017, 82 FR 42457 |
21.28.030 | Prohibited acts | 10/1/2016 (borough effective date) | 9/8/2017, 82 FR 42457 | Except H and J.
21.28.050 | Forecasting exceedances and restrictions in the air quality control zone during an alert | 6/26/2015 (borough effective date) | 9/8/2017, 82 FR 42457 |
21.28.060 | No other adequate source of heat determination | 8/12/2016 (borough effective date) | 9/8/2017, 82 FR 42457 |

(d) EPA approved state source-specific requirements.

Table 4 to Paragraph (d)—EPA-Approved Alaska Source-Specific Requirements
Name of source | Order/permit number | State effective date | EPA approval date | Explanations
None

(e) EPA approved nonregulatory provisions and quasi-regulatory measures.

Table 5 to Paragraph (e)—EPA-Approved Alaska Nonregulatory Provisions and Quasi-Regulatory Measures
Name of SIP provision | Applicable geographic or nonattainment area | State submittal date | EPA approval date | Explanations
State of Alaska Air Quality Control Plan: Volume II. Analysis of Problems, Control Actions
Section I. Background
II.I.A. Introduction | Statewide | 1/8/1997 | 12/29/1999, 64 FR 72940
II.I.B. Air Quality Control Regions | Statewide | 1/8/1997 | 12/29/1999, 64 FR 72940
II.I.C. Attainment/nonattainment Designations | Statewide | 1/8/1997 | 12/29/1999, 64 FR 72940
II.I.D. Prevention of Significant Deterioration Designations | Statewide | 1/8/1997 | 12/29/1999, 64 FR 72940
II.I.E. New Source Review | Statewide | 1/8/1997 | 12/29/1999, 64 FR 72940
Section II. State Air Quality Control Program
II.II. State Air Quality Control Program | Statewide | 7/9/2012 | 10/22/2012, 77 FR 64425
Section III. Areawide Pollutant Control Program
II.III.A. Statewide Carbon Monoxide Control Program | Statewide | 6/5/2008 | 3/22/2010, 75 FR 13436
II.III.B. Anchorage Transportation Control Program | Anchorage | 1/4/2002 | 9/18/2002, 67 FR 58711
II.III.B.11. Anchorage Carbon Monoxide Maintenance Plan | Anchorage | 9/20/2011 | 3/3/2014, 79 FR 11707
II.III.B.12. Anchorage Second 10-year Carbon Monoxide Limited Maintenance Plan | Anchorage | 4/22/2013 | 3/3/2014, 79 FR 11707
II.III.C. Fairbanks Transportation Control Program | Fairbanks | 8/30/2001 | 2/4/2002, 67 FR 5064
II.III.C.11. Fairbanks Carbon Monoxide Redesignation and Maintenance Plan | Fairbanks | 9/15/2009 | 3/22/2010, 75 FR 13436
II.III.C.12. Fairbanks Second 10-year Carbon Monoxide Limited Maintenance Plan | Fairbanks | 4/22/2013 | 8/9/2013, 78 FR 48611
II.III.D. Particulate Matter | Statewide | 10/15/1991 | 8/13/1993, 58 FR 43084
II.III.D.2. Eagle River PM10 Control Plan | Eagle River | 10/15/1991 | 8/13/1993, 58 FR 43084
II.III.D.2.a. Eagle River PM10 Limited Maintenance Plan | Eagle River | 9/29/2010 | 1/7/2013, 78 FR 900
II.III.D.2.b. Second 10-year PM10 Limited Maintenance Plan | Eagle River | 11/10/2020 | 11/9/2021, 86 FR 62096
II.III.D.3. Mendenhall Valley PM10 Control Plan | Mendenhall Valley | 6/22/1993 | 3/24/1994, 59 FR 13884
II.III.D.3.a. Mendenhall Valley PM10 Limited Maintenance Plan | Mendenhall Valley | 5/14/2009 | 5/9/2013, 78 FR 27071
II.III.D.3.b. Mendenhall Valley Second 10-year Limited Maintenance Plan | Mendenhall Valley | 11/10/2020 | 10/25/2021, 86 FR 58807
II.III.D.4. Interstate Transport of Particulate Matter | Statewide | 2/7/2008 | 10/15/2008, 73 FR 60955
II.III.D.5. Fairbanks North Star Borough PM2.5 Control Plan | Fairbanks North Star Borough | 11/23/2016 | 9/8/2017, 82 FR 42457 | Fairbanks North Star Borough PM2.5 Moderate Area Plan.
II.III.E. Ice Fog | Statewide | 1/18/1980 | 7/5/1983, 48 FR 30623
II.III.F. Open Burning | Statewide | 4/4/2011 | 2/14/2013, 78 FR 10546
II.III.F.1. In Situ Burning Guidelines for Alaska | Statewide | 4/4/2011 | 2/14/2013, 78 FR 10546 | Revision 1, August 2008.
II.III.G. Wood Smoke Pollution Control | Statewide | 11/15/1983 | 4/24/1984, 49 FR 17497
II.III.H. Lead Pollution Control | Statewide | 11/15/1983 | 1/3/1984, 49 FR 67
II.III.I. Transportation Conformity | Statewide | 4/17/2015 | 9/8/2015, 80 FR 53735
II.III.I.1. Transportation Conformity Supplement | Statewide | 7/29/2015 | 9/8/2015, 80 FR 53735 | Clarification re: access to public records: AS 40.25.110, AS 40.25.115, and 2 AAC 96.
II.III.J. General Conformity | Statewide | 12/05/1994 | 9/27/1995, 60 FR 49765
II.III.K. Area Wide Pollutant Control Program for Regional Haze | Statewide | 4/4/2011 | 2/14/2013, 78 FR 10546
Section IV. Point Source Control Program
II.IV.A. Summary | Statewide | 11/15/1983 | 4/24/1984, 49 FR 17497
II.IV.B. State Air Quality Regulations | Statewide | 11/15/1983 | 4/24/1984, 49 FR 17497
II.IV.C. Local Programs | Statewide | 11/15/1983 | 4/24/1984, 49 FR 17497
II.IV.D. Description of Source Categories and Pollutants | Statewide | 11/15/1983 | 4/24/1984, 49 FR 17497
II.IV.E. Point Source Control | Statewide | 11/15/1983 | 4/24/1984, 49 FR 17497
II.IV.F. Facility Review Procedures | Statewide | 9/12/1988 | 7/31/1989, 54 FR 31522
II.IV.G. Application Review and Permit Development | Statewide | 11/15/1983 | 4/24/1984, 49 FR 17497
II.IV.H. Permit Issuance Requirements | Statewide | 11/15/1983 | 4/24/1984, 49 FR 17497
Section V. Ambient Air Monitoring
II.V.A. Purpose | Statewide | 1/18/1980 | 4/15/1981, 46 FR 21994
II.V.B. Completed Air Monitoring Projects | Statewide | 1/18/1980 | 4/15/1981, 46 FR 21994
II.V.C. Air Monitoring Network | Statewide | 1/18/1980; 7/11/1994 | 4/15/1981, 46 FR 21994; 4/5/1995, 60 FR 17237
II.V.E. Annual Review | Statewide | 1/18/1980 | 4/15/1981, 46 FR 21994
State of Alaska Air Quality Control Plan: Volume III. Appendices
Section II. State Air Quality Control Program
III.II.A. State Air Statutes | Statewide | 12/11/2006 | 3/22/2010, 75 FR 13436 | Except 46.03.170.
III.II.A.1. State Attorney General Opinions on Legal Authority | Statewide | 12/11/2006 | 3/22/2010, 75 FR 13436
III.II.B. Municipality of Anchorage and ADEC Agreements | Anchorage | 4/22/2013 | 3/3/2014, 79 FR 11707
III.II.C. Fairbanks North Star Borough and ADEC Agreements | Fairbanks | 12/11/2006 | 3/22/2010, 75 FR 13436 |
III.II.D. CAA Section 110 Infrastructure Certification Documentation and Supporting Documents | Statewide | 10/25/2018 | 12/23/2019, 84 FR 70428 |
III.II.D.1. Attachment 1—Public Official Financial Disclosure (2 AAC 50.010 through 2 AAC 50.200) | Statewide | 7/9/2012 | 10/22/2012, 77 FR 64425 | Approved for purposes of CAA section 128.
III.II.D.2. Attachment 2—Executive Branch Code of Ethics (9 AAC 52.010 through 9 AAC 52.990) | Statewide | 7/9/2012 | 10/22/2012, 77 FR 64425 | Approved for purposes of CAA section 128.
Section III. Area Wide Pollutant Control Program
III.III.A. I/M Program Manual | Statewide | 6/5/2008 | 3/22/2010, 75 FR 13436
III.III.B. Municipality of Anchorage | Anchorage | 4/22/2013 | 3/3/2014, 79 FR 11707
III.III.C. Fairbanks | Fairbanks | 4/22/2013 | 8/9/2013, 78 FR 48611
III.III.D. Particulate Matter | Statewide | 10/15/1991 | 8/13/1993, 58 FR 43084
III.III.D.2. Eagle River PM10 Control Plan | Eagle River | 11/10/2020 | 11/9/2021, 86 FR 62096
III.III.D.3. Control Plan for the Mendenhall Valley of Juneau | Mendenhall Valley | 11/10/2020 | 10/25/2021, 86 FR 58807
III.III.D.5. Fairbanks North Star Borough PM2.5 Control Plan | Fairbanks North Star Borough | 11/23/2016 | 9/8/2017, 82 FR 42457 | Only with respect to the Fairbanks North Star Borough PM2.5 Moderate Area Plan.
III.III.G. Ordinance of the City and Borough of Juneau | Juneau | 11/15/1983 | 4/24/1984, 49 FR 17497
III.III.H. Support Documents for Lead Plan | Statewide | 11/15/1983 | 1/3/1984, 49 FR 67
III.III.K. Area wide Pollutant Control Program for Regional Haze | Statewide | 4/4/2011 | 2/14/2013, 78 FR 10546
Section IV. Point Source Control Program
III.IV. Point Source Control Program | Statewide | 11/15/1983 | 4/24/1984, 49 FR 17497
III.IV.1. PSD Area Classification and Reclassification | Statewide | 11/15/1983 | 4/24/1984, 49 FR 17497
III.IV.2. Compliance Assurance | Statewide | 11/15/1983 | 4/24/1984, 49 FR 17497
III.IV.3. Testing Procedures | Statewide | 11/15/1983 | 4/24/1984, 49 FR 17497
Section V. Ambient Air Monitoring
III.V. Ambient Air Monitoring | Statewide | 11/15/1983 | 4/24/1984, 49 FR 17497
Section VI. Small Business Assistance Program
III.VI. Small Business Assistance Program | Statewide | 4/18/1994 | 9/5/1995, 60 FR 46021
Infrastructure and Interstate Transport
Interstate Transport Requirements—1997 Ozone and 1997 PM2.5 NAAQS | Statewide | 2/7/2008 | 10/15/2008, 73 FR 60955 | Approved SIP for purposes of CAA section 110(a)(2)(D)(i) for the 1997 Ozone and 1997 PM2.5 NAAQS.
Infrastructure Requirements—1997 Ozone NAAQS | Statewide | 7/9/2012 | 10/22/2012, 77 FR 64425 | Approved SIP for purposes of CAA sections 110(a)(2)(A), (B), (C), (D)(ii), (E), (F), (G), (H), (J), (K), (L), and (M) for the 1997 Ozone NAAQS.
Interstate Transport Requirements—2008 Ozone and 2006 PM2.5 NAAQS | Statewide | 3/29/2011 | 8/4/2014, 79 FR 45103 | Approved SIP for purposes of CAA section 110(a)(2)(D)(i)(I) for the 2008 Ozone and 2006 PM2.5 NAAQS.
Interstate Transport Requirements—2008 Lead NAAQS | Statewide | 7/9/2012 | 8/4/2014, 79 FR 45103 | Approved SIP for purposes of CAA section 110(a)(2)(D)(i)(I) for the 2008 Lead NAAQS.
Infrastructure Requirements—1997 PM2.5 NAAQS | Statewide | 7/9/2012 | 11/10/2014, 79 FR 66651 | Approved SIP for purposes of CAA section 110(a)(2)(A), (B), (C), (D)(ii), (E), (F), (H), (J), (K), (L), and (M) for the 1997 PM2.5 NAAQS.
Infrastructure Requirements—2006 PM2.5 NAAQS | Statewide | 7/9/2012, 3/29/2011 | 11/10/2014, 79 FR 66651 | Approved SIP for purposes of CAA section 110(a)(2)(A), (B), (C), (D)(i)(II), (D)(ii), (E), (F), (H), (J), (K), (L), and (M) for the 2006 PM2.5 NAAQS.
Infrastructure Requirements—2008 Ozone NAAQS | Statewide | 7/9/2012, 3/29/2011 | 11/10/2014, 79 FR 66651 | Approved SIP for purposes of CAA section 110(a)(2)(A), (B), (C), (D)(i)(II), (D)(ii), (E), (F), (G), (H), (J), (K), (L), and (M) for the 2008 Ozone NAAQS.
Infrastructure Requirements—2010 NO2 NAAQS | Statewide | 5/12/2015 | 5/12/2017, 82 FR 22081 | Approved SIP for purposes of CAA section 110(a)(2)(A), (B), (C), (D)(i)(II), (D)(ii), (E), (F), (G), (H), (J), (K), (L), and (M) for the 2010 NO2 NAAQS.
Infrastructure Requirements—2010 SO2 NAAQS | Statewide | 5/12/2015 | 5/12/2017, 82 FR 22081 | Approved SIP for purposes of CAA section 110(a)(2)(A), (B), (C), (D)(i)(II), (D)(ii), (E), (F), (G), (H), (J), (K), (L), and (M) for the 2010 SO2 NAAQS.
Interstate Transport Requirements—2015 Ozone NAAQS | Statewide | 10/25/2018 | 12/18/2019, 84 FR 69331 | Approved SIP for purposes of CAA section 110(a)(2)(D)(i)(I) for the 2015 Ozone NAAQS.
Infrastructure Requirements—2015 Ozone NAAQS | Statewide | 10/25/2018 | 12/23/2019, 84 FR 70428 | Approved SIP for purposes of CAA section 110(a)(2)(A), (B), (C), (D)(i)(II), (D)(ii), (E), (F), (G), (H), (J), (K), (L), and (M) for the 2015 Ozone NAAQS.
Regulations Approved but not Incorporated by Reference
18 AAC 50.076(g)(11) Solid Fuel-fired Heating Device Fuel Requirements; Registration of Commercial Wood Sellers | Statewide | 11/26/2016 | 9/8/2017, 82 FR 42457
21.28.030.J Prohibited Acts. Penalties | Fairbanks North Star Borough | 10/1/2016 (borough effective date) | 9/8/2017, 82 FR 42457 | FNSB Code Chapter 21.28 PM2.5 Air Quality Control Program.
21.28.040 Enhanced voluntary removal, replacement and repair program | Fairbanks North Star Borough | 1/15/2016 (borough effective date) | 9/8/2017, 82 FR 42457 | FNSB Code Chapter 21.28 PM2.5 Air Quality Control Program.
21.28.070 Voluntary burn cessation program | Fairbanks North Star Borough | 4/24/2015 (borough effective date) | 9/8/2017, 82 FR 42457 | FNSB Code Chapter 21.28 PM2.5 Air Quality Control Program.
Recently Approved Plans
II.III.D.5.11 Fairbanks Emergency Episode Plan | Fairbanks North Star Borough | 11/28/2018 | 6/5/2019, 84 FR 26019 | Revision to II.III.D.5.
III.III.D.5.12 Appendix to Volume II. Section III.D.5 | Fairbanks North Star Borough | 11/28/2018 | 6/5/2019, 84 FR 26019 | Revision to pages 68 through 84 of III.III.D.5.
II.III.D.7.06 Fairbanks Emissions Inventory Data | Fairbanks North Star Borough | 12/13/2019 | 9/24/2021, 86 FR 52997 | Approved for purposes of the Fairbanks Serious Plan 2013 base year emissions inventory.
III.III.D.7.06 Appendix to Fairbanks Emissions Inventory Data | Fairbanks North Star Borough | 12/13/2019 | 9/24/2021, 86 FR 52997 | Approved for purposes of the Fairbanks Serious Plan 2013 base year emissions inventory.
II.III.D.7.08 Fairbanks Modeling | Fairbanks North Star Borough | 12/13/2019 | 9/24/2021, 86 FR 52997 | Approved for purposes of the Fairbanks Serious Plan PM2.5 precursor demonstration for NOX and VOC emissions as it relates to BACM/BACT control measure requirements.
II.III.D.7.12 Fairbanks Emergency Episode Plan | Fairbanks North Star Borough | 12/15/2020 | 9/24/2021, 86 FR 52997 |
II.III.D.7.01 Executive Summary | Fairbanks North Star Borough | 12/13/2019 | 12/5/2023; 88 FR 84626 |
II.III.D.7.02 Background and Overview of PM2.5 Rule | Fairbanks North Star Borough | 12/13/2019 | 12/5/2023; 88 FR 84626 |
III.III.D.7.02 Appendix to Background and Overview of PM2.5 Rule | Fairbanks North Star Borough | 12/13/2019 | 12/5/2023; 88 FR 84626 |
II.III.D.7.03 Nonattainment Area Boundary and Design Episode Selection | Fairbanks North Star Borough | 12/13/2019 | 12/5/2023; 88 FR 84626 |
III.III.D.7.03 Appendix to Nonattainment Area Boundary and Design Episode Selection | Fairbanks North Star Borough | 12/13/2019 | 12/5/2023; 88 FR 84626 |
II.III.D.7.04 Ambient Air Quality and Trends | Fairbanks North Star Borough | 12/15/2020 | 12/5/2023; 88 FR 84626 |
II.III.D.7.05 PM2.5 Network and Monitoring Program | Fairbanks North Star Borough | 12/15/2020 | 12/5/2023; 88 FR 84626 |
III.III.D.7.05 Appendix to PM2.5 Network and Monitoring Program | Fairbanks North Star Borough | 12/15/2020 | 12/5/2023; 88 FR 84626 |
II.III.D.7.06 Fairbanks Emissions Inventory Data | Fairbanks North Star Borough | 12/15/2020 | 12/5/2023; 88 FR 84626 | Approved for purposes of the Fairbanks 189(d) Plan 2019 base year emissions inventory.
III.III.D.7.06 Appendix to Fairbanks Emissions Inventory Data | Fairbanks North Star Borough | 12/15/2020 | 12/5/2023; 88 FR 84626 | Approved for purposes of the Fairbanks 189(d) Plan 2019 base year emissions inventory.
II.III.D.7.07 Control Strategies | Fairbanks North Star Borough | 12/15/2020 | 12/5/2023; 88 FR 84626 | Approved for purposes of the Fairbanks Serious Plan and Fairbanks 189(d) Plan for the following emission source categories: solid fuel home heating device; residential and commercial fuel oil combustion; charbroiler; used oil burner; incinerator; PM2.5 and NH3 BACT determination for Doyon-Fort Wainwright Central Heating and Power Plant; PM2.5 and NH3 BACT determination for the University of Alaska Fairbanks Campus Power Plant except for the PM2.5 BACT determination for the three small diesel fired engines (EUs 23, 26 and 27); PM2.5 and NH3 BACT determinations for Golden Valley Electric Association Zehnder Power Plant; PM2.5 and NH3 BACT Determinations for the Golden Valley Electric Association North Pole Power Plant; and Nonattainment New Source Review Requirements.
III.III.D.7.07 Appendix to Control Strategies | Fairbanks North Star Borough | 12/15/2020 | 12/5/2023; 88 FR 84626 | Approved for purposes of the Fairbanks Serious Plan and Fairbanks 189(d) Plan for the following emission source categories: solid fuel home heating device; residential and commercial fuel oil combustion; charbroiler; used oil burner; incinerator; PM2.5 and NH3 BACT determination for Doyon-Fort Wainwright Central Heating and Power Plant; PM2.5 and NH3 BACT determination for the University of Alaska Fairbanks Campus Power Plant except for the PM2.5 BACT determination for the three small diesel fired engines (EUs 23, 26 and 27); PM2.5 and NH3 BACT determinations for Golden Valley Electric Association Zehnder Power Plant; PM2.5 and NH3 BACT Determinations for the Golden Valley Electric Association North Pole Power Plant; and Nonattainment New Source Review Requirements.
II.III.D.7.08 Modeling | Fairbanks North Star Borough | 12/15/2020 | 12/5/2023; 88 FR 84626 | Approved for purposes of the Fairbanks 189(d) Plan for the PM2.5 precursor demonstration for NOX and VOC emissions as it relates to BACM/BACT control measure requirements and control strategy requirements for areas subject to CAA section 189(d).
III.III.D.7.08 Appendix to Modeling | Fairbanks North Star Borough | 12/15/2020 | 12/5/2023; 88 FR 84626 | Approved for purposes of the Fairbanks 189(d) Plan for the PM2.5 precursor demonstration for NOX and VOC emissions as it relates to BACM/BACT control measure requirements and control strategy requirements for areas subject to CAA section 189(d).
II.III.D.7.13 Assurance of Adequacy | Fairbanks North Star Borough | 12/13/2019 | 12/5/2023; 88 FR 84626
III.III.D.7.13 Appendix to Assurance of Adequacy | Fairbanks North Star Borough | 12/13/2019 | 12/5/2023; 88 FR 84626
II.III.D.7.15 Acronyms and Abbreviations | Fairbanks North Star Borough | 12/13/2019 | 12/5/2023; 88 FR 84626 |

[FR Doc. 2025-01120 Filed 1-16-25; 8:45 am]

BILLING CODE 6560-50-P